DEPARTMENT OF COMMERCE

National Oceanic and Atmospheric Administration

[RTID 0648-XD312]

Pacific Fishery Management Council; Public Meeting

AGENCY: National Marine Fisheries Service (NMFS), National Oceanic and Atmospheric Administration (NOAA), Commerce.

ACTION: Notice of a public online meeting.

SUMMARY: The Ecosystem-Based Management and Groundfish Subcommittees of the Pacific Fishery Management Council's (Pacific Council) Scientific and Statistical Committee (SSC) will convene an online meeting to review a proposed approach for developing the use of ecosystem risk evaluation tables and any other Ecosystem and Climate Information for Species, Fisheries, and Fishery Management Plan (Initiative 4) materials provided by the Council's Ecosystem Workgroup. The SSC Ecosystem-Based Management and Groundfish Subcommittee meeting is open to the public.

DATES: The SSC Ecosystem-Based Management and Groundfish Subcommittee meeting will be held Thursday, September 21, 2023, from 1 p.m. until 5 p.m. (Pacific Daylight Time) or until business for the day has been completed.

ADDRESSES: The SSC Ecosystem-Based Management and Groundfish Subcommittee meeting will be conducted as an online meeting. Specific meeting information, including the agenda and directions on how to join the meeting and system requirements, will be provided in the workshop announcement on the Pacific Council's website (see www.pcouncil.org). You may send an email to Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414; email: marlene.bellman@noaa.gov.

SUPPLEMENTARY INFORMATION: The purpose of the SSC Ecosystem-Based Management and Groundfish Subcommittee meeting is to review an approach being developed by the Council's Ecosystem Workgroup to develop ecosystem risk evaluation tables for several example groundfish species, their potential use in the Council process, and any intersection with the SSC's scientific uncertainty buffers and stock category designations which result from the stock assessment process.

No management actions will be decided by the meeting participants. The participants' role will be development of recommendations and reports for consideration by the SSC and the Pacific Council at a future Council meeting. The Pacific Council and SSC are scheduled to consider the Ecosystem and Climate Information for Species, Fisheries, and Fishery Management Plan Initiative 4 at their March 2024 meeting in Fresno, CA.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Kris Kleinschmidt (kris.kleinschmidt@noaa.gov; (503) 820-2412) at least 10 days prior to the meeting date.

Authority: 16 U.S.C. 1801 et seq.

Dated: August 30, 2023.
Rey Israel Marquez,
Acting Deputy Director, Office of Sustainable Fisheries, National Marine Fisheries Service.

[FR Doc. 2023-19096 Filed 9-1-23; 8:45 am]

BILLING CODE 3510-22-P